DEPARTMENT OF ENERGY

Federal Energy Regulatory Commission

Sunshine Act Meeting

May 7, 2003.

The following notice of meeting is published pursuant to section 3(a) of the government in the Sunshine Act (Pub. L. 94-409), 5 U.S.C 552B:

Agency Holding Meeting: Federal Energy Regulatory Commission.

Date and Time: May 14, 2003. 10 a.m.

Place: Room 2C, 888 First Street, NE., Washington, DC 20426.

Status: Open.

Matters to be Considered: Agenda. *Note—Items listed on the agenda may be deleted without further notice.

Contact Person for more Information: Magalie R. Salas, Secretary, Telephone (202) 502-8400. For a recording listing items stricken from or added to the meeting, call (202) 502-8627.

This is a list of matters to be considered by the Commission. It does not include a listing of all papers relevant to the items on the agenda; however, all public documents may be examined in the Reference and Information Center.

Administrative Agenda

A-1.

Docket#, AD02-1, 000, Agency Administrative Matters.

A-2.

Docket#, AD02-7, 000, Customer Matters, Reliability, Security and Market Operations.

A-3.

Docket#, AD03-9, 000, Regional Market Monitor State of the Market Presentations.

Markets, Tariffs and Rates—Electric

E-1.

Omitted

E-2.

Omitted

E-3.

Docket#, ER03-421, 000, PPL Wallingford Energy LLC.

Other#s, ER03-421, 001, PPL Wallingford Energy LLC.

E-4.

Omitted

E-5.

Docket#, ER03-432, 000, SP Newsprint Co.

Other#s, ER03-432, 001, SP Newsprint Co.

E-6.

Omitted

E-7.

Docket#, ER03-549, 000, Southern California Edison Company.

Other#s, ER03-549, 001, Southern California Edison Company.

E-8.

Docket#, ER03-573, 000, Midwest Independent Transmission System Operator, Inc.

E-9.

Docket#, ER03-689, 000, WPS Canada Generation, Inc.

Other#s, ER03-689, 001, WPS Canada Generation, Inc.

E-10.

Docket#, ER03-688, 000, Michigan Electric Transmission Company, LLC.

E-11.

Docket#, ER03-704, 000, Yankee Atomic Electric Company.

E-12.

Omitted

E-13.

Docket#, ER02-2189, 000, Southern California Edison Company.

E-14.

Docket#, ER03-452, 000, Conjunction LLC.

E-15.

Docket#, ER02-2314, 000, RockGen Energy, LLC.

Other#s, ER02-2314, 001, RockGen Energy, LLC.

E-16.

Docket#, ER03-574, 000, Midwest Independent Transmission System Operator, Inc.

E-17.

Omitted

E-18.

Docket#, ER02-290, 002, Midwest Independent Transmission System Operator, Inc.

E-19.

Docket#, EL02-18, 001, NEO California Power LLC.

E-20.

Docket#, ER01-2099, 002, Neptune Regional Transmisson System, LLC.

E-21.

Docket#, ER02-107, 001, Midwest Independent Transmission System Operator, Inc.

Other#s, ER02-107, 002, Midwest Independent Transmission System Operator, Inc.

E-22.

Docket#, ER01-1807, 005, Carolina Power and Light Company and Florida Power Corporation.

Other#s, ER01-1807, 006, Carolina Power and Light Company and Florida Power Corporation.

ER01-2020, 002, Carolina Power and Light Company and Florida Power Corporation.

ER01-2020, 003, Carolina Power and Light Company and Florida Power Corporation.

E-23.

Docket#, RT01-87, 005, Midwest Independent Transmission System Operator, Inc.

Other#s, RT01-87, 006, Midwest Independent Transmission System Operator, Inc.

ER02-108, 004, Midwest Independent Transmission System Operator, Inc.

ER02-108, 002, Midwest Independent Transmission System Operator, Inc.

ER02-106, 001, Midwest Independent Transmission System Operator, Inc.

E-24.

Docket#, EC02-71, 001, American Transmission Systems, Inc., and PJM Interconnection, L.L.C.

Other#s, ER02-1865, 001, American Transmission Systems, Inc., and PJM Interconnection, L.L.C.

E-25.

Docket#, ER02-111, 006, Midwest Independent Transmission System Operator, Inc.

Other#s, ER02-111, 007, Midwest Independent Transmission System Operator, Inc.

ER02-652, 004, Midwest Independent Transmission System Operator, Inc.

E-26.

Docket#, EC03-14, 001, Ameren Services Company, First Energy Corp., Northern Indiana Public Service Company, National Grid USA, and Midwest Independent Transmission System Operator, Inc.

Other#s, ER02-2233, 002, Ameren Services Company, First Energy Corp., Northern Indiana Public Service Company, National Grid USA, and Midwest Independent Transmission System Operator, Inc.

ER02-2233, 003, Ameren Services Company, First Energy Corp., Northern Indiana Public Service Company, National Grid USA, and Midwest Independent Transmission System Operator, Inc.

E-27.

Docket#, ER03-86, 001, Midwest Independent Transmission System Operator, Inc.

Other#s, ER03-86, 002, Midwest Independent Transmission System Operator, Inc.

EL03-122, 000, Midwest Independent Transmission System Operator, Inc.

E-28.

Docket#, ER03-265, 001, Midwest Independent Transmission System Operator, Inc.

E-29.

Docket#, EL03-35, 002, Midwest Independent Transmission System Operator, Inc.

E-30.

Docket#, ER02-1326, 003, PJM Interconnection, L.L.C.

Other#s, ER02-1326, 004, PJM Interconnection, L.L.C.

ER02-1326, 005, PJM Interconnection, L.L.C.

E-31.

Docket#, OA97-261, 004, Pennsylvania-New Jersey-Maryland Interconnection.

Other#s, EC96-28, 005, Atlantic City Electric Company, Baltimore. Gas and Electric Company, Delmarva Power & Light Company, Jersey Central Power & Light Company, Metropolitan Edison Company, Pennsylvania Electric Company, Pennsylvania Power & Light Company, Potomac Electric Power Company, and Public Service Electric and Gas Company.

EC96-28, 006, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company.

EC96-29, 005, PECO Energy Company.

EC96-29, 006, PECO Energy Company.

EL96-69, 005, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company.

EL96-69, 006, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company.

ER96-2516, 005, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company.

ER96-2516, 006, Atlantic City Electric Company, Baltimore Gas and Electric Company, Delmarva Power & Light Company, Jersey Central Power & Light Company, Metropolitan Edison Company, Pennsylvania Electric Company, Pennsylvania Power & Light Company, Potomac Electric Power Company, and Public Service Electric and Gas Company.

ER96-2668, 005, PECO Energy Company.

ER96-2668, 006, PECO Energy Company.

EC97-38, 003, Pennsylvania Electric Company, Pennsylvania Power & Light Company, Potomac Electric Power Company, Public Service Electric and Gas Company, Atlantic City Electric Company, Baltimore Gas and Electric Company, Delmarva Power & Light Company, Jersey Central Power & Light Company, and Metropolitan Edison Company.

EC97-38, 004, Pennsylvania Electric Company, Pennsylvania Power & Light Company, Potomac Electric Power Company, Public Service Electric and Gas Company, Atlantic City Electric Company, Baltimore Gas and Electric Company, Delmarva Power & Light Company, Jersey Central Power & Light Company, and Metropolitan Edison Company.

EL97-44, 003, Pennsylvania-New Jersey-Maryland Interconnection Restructuring.

EL97-44 004, Pennsylvania-New Jersey-Maryland Interconnection Restructuring.

OA97-261, 005, Pennsylvania-New Jersey-Maryland Interconnection.

OA97-678, 003, PJM Interconnection, L.L.C.

OA97-678, 004, PJM Interconnection, L.L.C.

ER97-1082, 006, Pennsylvania-New Jersey-Maryland Interconnection.

ER97-1082, 007, Pennsylvania-New Jersey-Maryland Interconnection.

ER97-3189, 032, Atlantic City Electric Company, Baltimore Gas and Electric Company, Delmarva Power & Light Company, Jersey Central Power & Light Company, and Metropolitan Edison Company.

ER97-3189, 033, Atlantic City Electric Company, Baltimore Gas and Electric Company, Delmarva Power & Light Company, Jersey Central Power & Light Company, and Metropolitan Edison Company.

ER97-3273, 003, Pennsylvania Electric Company, Pennsylvania Power & Light Company, Potomac Electric Power Company, Public Service Electric and Gas Company, and Pennsylvania-New Jersey-Maryland Interconnection Restructuring.

ER97-3273, 004, Pennsylvania Electric Company, Pennsylvania Power & Light Company, Potomac Electric Power Company, Public Service Electric and Gas Company, and Pennsylvania-New Jersey-Maryland Interconnection Restructuring.

E-32.

Docket#, ER02-2234, 009, California Power Exchange Corporation.

Other#s

ER02-2234, 008, California Power Exchange Corporation.

ER03-139, 004, California Power Exchange Corporation.

ER03-139, 005, California Power Exchange Corporation.

E-33.

Omitted

E-34.

Docket#, EL03-118, 000, Wilbur Power LLC.

Other#s,

QF83-168, 005, Wilbur Power LLC.

E-35.

Docket#, EL02-77, 000, Puget Sound Energy, Inc.

E-36.

Docket#, NJ03-2, 000, Southern Illinois Power Cooperative.

E-37.

Docket#, EL03-38, 000, Cargill Power Markets, LLC.

E-38.

Docket#, EL98-6, 001, Old Dominion Electric Cooperative v. Public Service Electric and Gas Company.

E-39.

Omitted

E-40.

Docket#, EG03-50, 000, FPL Energy New England Transmission, LLC.

E-41.

Docket#, ER03-83, 001, TRANSLink Development Company, LLC.

Miscellaneous

M-1.

Reserved

Markets, Tariffs and Rates—Gas

G-1.

Docket#, RP03-339, 000, Southern Star Central Gas Pipeline, Inc.

Other#s, RP03-339, 001, Southern Star Central Gas Pipeline, Inc.

G-2.

Omitted

G-3.

Docket#, RP03-343, 000, Northern Natural Gas Company.

G-4.

Docket#, PR03-6, 000, EPGT Texas Pipeline, LP.

G-5.

Docket#, RP98-39, 000, Northern Natural Gas Company.

Other#s, SA98-101, 000, Continental Energy.

G-6.

Docket#, RP02-361, 006, Gulfstream Natural Gas System, L.L.C.

G-7.

Docket#, RP00-337, 005, Kern River Gas Transmission Company.

G-8.

Docket#, RP00-495, 003, Texas Gas Transmission Corporation.

Other#s, RP00-495, 004, Texas Gas Transmission Corporation.

RP01-97, 002, Texas Gas Transmission Corporation.

RP01-97, 003, Texas Gas Transmission Corporation.

RP03-211, 000, Texas Gas Transmission Corporation.

G-9.

Docket#, RP03-162, 002, Trailblazer Pipeline Company.

Other#s,

RP03-162, 000, Trailblazer Pipeline Company.

G-10.

Docket#, RP99-301, 027, ANR Pipeline Company.

Other#s, RP99-301, 031, ANR Pipeline Company.

GT01-25, 002, ANR Pipeline Company.

G-11.

Docket#, RP00-343, 004, Kinder Morgan Interstate Gas Transmission, LLC.

Other#s

RP00-343, 005, Kinder Morgan Interstate Gas Transmission, LLC.

RP00-629, 001, Kinder Morgan Interstate Gas Transmission, LLC.

G-12.

Docket#, RP00-469, 002, East Tennessee Natural Gas Company.

Other#s, RP00-469, 003, East Tennessee Natural Gas Company.

RP01-22, 004, East Tennessee Natural Gas Company.

RP01-22, 005, East Tennessee Natural Gas Company.

RP03-177, 000, East Tennessee Natural Gas Company.

G-13.

Docket#, RP00-333, 002, Crossroads Pipeline Company.

Other#s, RP00-333, 003, Crossroads Pipeline Company.

RP01-51, 002, Crossroads Pipeline Company.

G-14.

Docket#, RP02-99, 006, Shell Offshore Inc. v. Transcontinental Gas Pipe Line Corporation, Williams Gas Processing-Gulf Coast Company, L.P., Williams Field Services Company and Williams Gulf Coast Gathering Company, L.L.C.

G-15.

Docket#, RP02-309, 001, Sunoco, Inc. (R&M) v. Transcontinental Gas Pipe Line Corporaton.

G-16.

Docket#, RP02-456, 001, Discovery Gas Transmission LLC.

Other#s, RP02-456, 002, Discovery Gas Transmission LLC.

RP02-456, 003, Discovery Gas Transmission LLC.

G-17.

Docket#, RP03-12, 001, Kinder Morgan Interstate Gas Transmission LLC.

G-18.

Docket#, RP00-409, 002, Natural Gas Pipeline Company of America.

Other#s, RP00-409, 003, Natural Gas Pipeline Company of America.

RP00-631, 003, Natural Gas Pipeline Company of America.

RP00-631, 004, Natural Gas Pipeline Company of America.

G-19.

Omitted

G-20.

Docket#, RP96-200, 098, CenterPoint Energy Gas Transmission Company.

Other#s, RP96-200, 099, CenterPoint Energy Gas Transmission Company.

G-21.

Docket#, RP98-54, 036, Colorado Interstate Gas Company.

Other#s, RP98-54, 037, Colorado Interstate Gas Company.

G-22.

Docket#, RP00-533, 007, Algonquin Gas Transmission Company.

G-23.

Docket#, RP00-535, 007, Texas Eastern Transmission, LP.

G-24.

Docket#, IS01-482, 002, Mid-America Pipeline Company.

G-25.

Docket#, OR02-4, 002, Chevron Products Company v. SFPP, L.P.

G-26.

Docket#, RP03-243, 000, Nicole Energy Services, Inc.

G-27.

Omitted

G-28.

Docket#, RP01-208, 000, Amoco Production Company, BP Exploration & Oil, Inc., Chevron U.S.A. Inc., ExxonMobil Gas Marketing Company, a division of Exxon Mobil Corporation, and Shell Offshore Inc.

G-29.

Docket#, RP02-356, 000, Canyon Creek Compression Company.

Other#s, RP02-356, 002, Canyon Creek Compression Company.

RP02-356, 001, Canyon Creek Compression Company.

G-30.

Omitted

G-31.

Docket#, OR02-10, 000, Shell Pipeline Company LP.

Energy Projects—Hydro

H-1.

Docket#, P-7115, 034, Homestead Energy Resources, LLC.

H-2.

Docket#, P-12154, 001, Canada Creek Corporation.

Energy Projects—Certificates

C-1.

Docket#, CP02-430, 001, Saltville Gas Storage Company, L.L.C.

Other#s, CP02-430, 002, Saltville Gas Storage Company, L.L.C.

C-2.

Docket#, RM03-4, 000, Emergency Reconstruction of Interstate Natural Gas Facilities Under the Natural Gas Act.

Other#s, AD02-14, 000, Conference on Emergency Reconstruction of Interstate Natural Gas Infrastructure.

C-3.

Docket#, CP01-153, 004, Tuscarora Gas Transmission Company.

C-4.

Docket#, CP03-11, 000, Jupiter Energy Corporation.

Magalie R. Salas,
Secretary.

[FR Doc. 03-11951 Filed 5-8-03; 4:37 pm]

BILLING CODE 6717-01-P